DEPARTMENT OF THE TREASURY

Office of Foreign Assets Control

Proposed Collection; Comment Request for Registration of Libyan Travel

AGENCY: Office of Foreign Assets Control, Treasury.

ACTION: Notice and request for comments.

SUMMARY: The Department of the Treasury, as part of is continuing effort to reduce paperwork and respondent burden, invites the general public and other federal agencies to take this opportunity to comment on proposed and/or continuing information collections, as required by the Paperwork Reduction act of 1995, Public Law 104-13 (44 U.S.C. 3506(c)(2)(A)). Currently, the Office of Foreign Assets Control (“OFAC”) within the Department of the Treasury is soliciting comments concerning OFAC's Libyan travel information collection. See, 31 CFR 550.560.

DATES: Written comments should be received on or before March 8, 2002 to be assured of consideration.

ADDRESSES: Direct all written comments to David W. Mills, Chief, Policy Planning & Program Management Division, Office of Foreign Assets Control, Department of the Treasury, 1500 Pennsylvania Avenue, N.W., Annex—2d Floor, Washington, D.C. 20220.

FOR FURTHER INFORMATION CONTACT: Requests for additional information about the filing or procedures should be directed to David W. Mills, Chief, Policy Planning & Program Management Division, Office of Foreign Assets Control, or Barbara C. Hammerle, Chief Counsel (Foreign Assets Control), Department of the Treasury, 1500 Pennsylvania Avenue, N.W., 1500 Pennsylvania Avenue, Annex—2d Floor, Washington, DC 20220.

SUPPLEMENTARY INFORMATION: Title: Travel to Libya by Immediate Family members of Libyan Nationals.

OMB Number: 1505-0092.

Abstract: The information must be filed by United States persons with the Licensing Division of the Office of Foreign Assets Control of the department of the Treasury (‘OFAC”) or with the Belgian Embassy in Tripoli, Libya, with respect to their eligibility to travel to and reside in Libya pursuant to the provision of § 550.560 of the Libyan Sanctions Regulations, 31 CFR part 550.

Current Actions: There are no changes being made to the notice at this time.

Type of Review: Extension of a currently approved collection.

Affected Public: Individuals or households.

Estimated Number of Respondents: 5.

Estimated Time Per Respondent: 1 hour.

Estimated Total Annual Burden Hours: 5.

The following paragraph applies to all of the collections of information covered by this notice:

An agency may not conduct or sponsor, and a person is not required to respond to, a collection of information unless the collection of information displays a valid Office of Management and Budget (“OMB”) control number. Books or records relating to a collection of information must be retained for five years. However, respondent's are not required to maintain any documents but the data is of a type ordinarily retained (birth certificate, naturalization certificate, U.S. passport number).

Request for Comments

Comments submitted in response to this notice will be summarized and/or included in the request for OMB approval. All comments will become a matter of public record. Comments are invited on: (a) Whether the collection of information is necessary for the proper performance of the functions of the agency, including whether the information has practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of service to provide information.

Approved: December 28, 2001.
David W. Mills,
Acting Director, Office of Foreign Assets Control.

[FR Doc. 02-292 Filed 1-4-02; 8:45 am]

BILLING CODE 4810-25-M